DEPARTMENT OF COMMERCE

International Trade Administration

[A-533-809]

Notice of Extension of Time Limit for the Final Results of Antidumping Duty Administrative Review: Certain Forged Stainless Steel Flanges From India

AGENCY: Import Administration, International Trade Administration, Department of Commerce.

EFFECTIVE DATE: July 6, 2007.

FOR FURTHER INFORMATION CONTACT: Fred Baker or Robert James, AD/CVD Operations, Office 7, Import Administration, International Trade Administration, U.S. Department of Commerce, 14th Street and Constitution Avenue, NW., Washington, DC 20230; telephone: (202) 482-2924 or (202) 482-0649, respectively.

SUPPLEMENTARY INFORMATION:

Background

On March 7, 2007, the Department of Commerce (the Department) published the preliminary results of the 2005-2006 administrative review of the antidumping duty order on certain forged stainless steel flanges (stainless steel flanges) from India. See Certain Forged Stainless Steel Flanges from India; Preliminary Results of Antidumping Duty Administrative Review, Partial Rescission and Intent to Rescind, 72 FR 10142 (March 7, 2007). The review covers the period from February 1, 2005 through January 31, 2006, and three manufacturers/exporters of the subject merchandise to the United States: Echjay Forgings Pvt. Ltd., Shree Ganesh Forgings, Ltd., and Rollwell Forge, Ltd. (Rollwell). In the preliminary results we stated that we would issue our final results for the antidumping duty review no later than 120 days after the date of publication of the preliminary results (i.e., July 5, 2007).

Extension of Time Limit for Final Results

The Tariff Act of 1930, as amended (the Act), at section 751(a)(3)(A), states that if it is not practicable to complete the review within the time specified, the administering authority may extend the 120-day period, following the date of the publication of the preliminary results, to issue its final results by an additional 60 days. Due to the complexity of the issues raised in this review, which necessitated issuing an additional supplemental questionnaire to Rollwell following issuance of the preliminary results, and the corresponding necessity to analyze the response and comments, the completion of the final results within the 120-day period is not practicable.

Therefore, in accordance with section 751(a)(3)(A) of the Act, the Department is extending the time period for issuing the final results of review by an additional 30 days until August 4, 2007. Because August 4, 2007, falls on a Saturday, the final results will be due on August 6, 2007, the next business day.

Dated: June 28, 2007.
Stephen J. Claeys,
Deputy Assistant Secretary for Import Administration.

[FR Doc. E7-13122 Filed 7-5-07; 8:45 am]

BILLING CODE 3510-DS-P